DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR Part 236, as detailed below.

[Docket Number FRA-2007-26965]

Applicant: CSX Transportation, Mr. J. Wesley Wheeler, Chief Mechanical Officer, Locomotives, 500 Water Street, Speed Code J-340, Jacksonville, Florida 32202.

CSX Transportation, Inc. (CSXT) seeks relief from the requirements of the rules, standards, and instructions set out in 49 CFR 236.586, to the extent that a visual inspection not be required as part of the daily or after-trip test on locomotives equipped with microprocessor equipment during a proposed test period. The proposed test period would have the participation of CSXT, FRA, Cab Signal Original Equipment Manufacturer's, Brotherhood of Locomotive Engineers and Trainmen, and the United Transportation Union. CSXT believes that the test will demonstrate how the newer systems will allow safe train operation in train control territory without needing to perform a daily visual inspection of the cab signal and train control apparatus. The test is intended to also exhibit how microprocessor-based systems can continuously monitor themselves with onboard self diagnostics and take the appropriate safe action if a failure is detected. During the proposed test period, CSXT will keep these locomotives on a 92-day periodic inspection interval and will not perform daily visual inspections of its cab signal and train control equipment.

Any interested party desiring to protest the granting of an application shall set forth specifically the grounds upon which the protest is made and include a concise statement of the interest of the party in the proceeding. Additionally, one copy of the protest shall be furnished to the applicant at the address listed above.

All communications concerning this proceeding should be identified by Docket Number (FRA-2007-26965) and must be submitted to the Docket Clerk, DOT Central Docket Management Facility, Room PI-401, 400 7th Street SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the Internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC, on February 23, 2007.
Grady C. Cothen, Jr.,
Deputy Associate Administrator for Safety Standards and Program Development.

[FR Doc. E7-3450 Filed 2-27-07; 8:45 am]

BILLING CODE 4910-06-P